DEPARTMENT OF TRANSPORTATION

Federal Aviation Administration

14 CFR Part 39

[Docket No. 2003-SW-29-AD; Amendment 39-13650; AD 2004-11-05]

RIN 2120-AA64

Airworthiness Directives; Eurocopter France Model EC 130 B4 and AS 350 B3 Helicopters

AGENCY: Federal Aviation Administration, DOT.

ACTION: Final rule.

SUMMARY: This amendment adopts a new airworthiness directive (AD) for the specified Eurocopter France (Eurocopter) model helicopters that requires inspecting the fuel transfer line and air exhaust duct for chafing, inspecting the air exhaust duct for a hole, and if necessary, repositioning the air exhaust duct to achieve the minimum clearances. This amendment is prompted by a report of damage to the fuel transfer line due to wear associated with vibrations and chafing of the fuel transfer line and the air exhaust duct. The actions specified by this AD are intended to detect chafing wear of the air exhaust duct and the fuel transfer line, which could result in a hole in the fuel transfer line, fuel leaking into the engine compartment and creating a fire hazard that could lead to a fire and a subsequent forced landing.

DATES: Effective July 9, 2004.

The incorporation by reference of certain publications listed in the regulations is approved by the Director of the Federal Register as of July 9, 2004.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION: A proposal to amend 14 CFR part 39 to include an AD for the specified model helicopters was published in the Federal Register on January 8, 2004 (69 FR 1275). That action proposed to require inspecting the fuel transfer line and air exhaust duct for chafing, and if necessary, repositioning the air exhaust duct to achieve at least 20 mm (0.8 in) of clearance in interference Area A and 12 mm (0.5 in) of clearance in interference Area B as depicted in Figure 1 of Eurocopter Alert Service Bulletin (ASB) No. 71A001 for Model EC 130 B4 helicopters and ASB No. 71.00.16 for Model AS 350 B3 helicopters, both dated May 12, 2003. These are one-time inspections.

The Direction Generale De L'Aviation Civile (DGAC), the airworthiness authority for France, notified the FAA that an unsafe condition may exist on Eurocopter Model EC 130 B4 and AS 350 B3 helicopters. The DGAC advises of receiving a report of damage to the fuel transfer line due to interference associated with vibrations and chafing of the bleed valve air exhaust duct.

Eurocopter has issued ASB No. 71A001 for Model EC 130 B4 helicopters and ASB No. 71.00.16 for Model AS 350 B3 helicopters, both dated May 12, 2003, which specify checks for interference between the bleed valve air exhaust duct and the engine fuel line. The DGAC classified these ASBs as mandatory and issued ADs No. 2003-208(A) and 2003-209(A), both dated May 28, 2003, to ensure the continued airworthiness of these helicopters in France.

Interested persons have been afforded an opportunity to participate in the making of this amendment. No comments were received on the proposal or the FAA's determination of the cost to the public. The FAA has determined that air safety and the public interest require the adoption of the rule as proposed.

The FAA estimates that this AD will affect 100 helicopters of U.S. registry, and the required actions will take approximately 0.5 work hour per helicopter to accomplish and 1 work hour to replace either the fuel transfer line or the air exhaust duct at an average labor rate of $65 per work hour. Required parts will cost approximately $817 for the fuel transfer line and $522 for the air exhaust duct. Based on these figures, we estimate the total cost impact of the AD on U.S. operators to be $6,188, assuming 2 fuel transfer lines and 2 air exhaust ducts are replaced.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2004-11-05 Eurocopter France: Amendment 39-13650. Docket No. 2003-SW-29-AD.

Applicability: Model EC 130 B4 helicopters with an optional engine flushing system installed, and AS 350 B3 helicopters with an optional engine flushing system installed and modified in accordance with MOD 073098, certificated in any category.

Compliance: Required within 10 hours time-in-service, unless accomplished previously.

To detect chafing wear of the air exhaust duct and the fuel transfer line, which could result in a hole in the fuel transfer line, fuel leaking into the engine compartment and creating a fire hazard that could lead to a fire and a subsequent forced landing, accomplish the following:

(a) Inspect the fuel transfer line located between the bleed valve of the engine starting system and the engine fuel filter for chafing in the interference areas in accordance with the Operational Procedure, paragraph 2.B.1., of Eurocopter Alert Service Bulletin (ASB) No. 71A001, dated May 12, 2003, for Model EC 130 B4 helicopters, or Eurocopter ASB No. 71.00.16, dated May 12, 2003, for Model AS 350 B3 helicopters.

(1) If the depth of the deepest wear mark is less than or equal to 0.05 mm (0.002 in), apply the maintenance procedure stated in the Engine Maintenance Manual.

(2) If the depth of the deepest wear mark is more than 0.05 mm (0.002 in) and less than or equal to 0.2 mm (0.008 in), replace the fuel transfer line within the next 50 hours TIS or within one month, whichever occurs first.

(3) If the depth of the deepest wear mark is more than 0.2 mm (0.008 in), replace the fuel transfer line before further flight.

(b) Inspect the air exhaust duct located between the bleed valve of the engine starting system and the engine fuel filter for a hole in the interference areas in accordance with the Operational Procedure, paragraph 2.B.1., of Eurocopter ASB No. 71A001, dated May 12, 2003, for Model EC 130 B4 helicopters, or Eurocopter ASB No. 71.00.16, dated May 12, 2003, for Model AS 350 B3 helicopters. If there is a hole in the air exhaust duct, replace the air exhaust duct within one month or before performing any engine flushing operation, whichever occurs first.

(c) Measure the clearances between the fuel transfer line and the air exhaust duct located between the bleed valve of the engine starting system and the engine fuel filter in the interference areas in accordance with the Operational Procedure, paragraph 2.B.1., of Eurocopter ASB No. 71A001, dated May 12, 2003, for Model EC 130 B4 helicopters, or Eurocopter ASB No. 71.00.16, dated May 12, 2003, for Model AS 350 B3 helicopters. If the clearance is less than 20 mm (0.8 in) in interference Area A or less than 12 mm (0.5 in) in interference Area B, reposition the air exhaust duct in accordance with the Operational Procedure, paragraph 2.B.2., of Eurocopter ASB No. 71A001, dated May 12, 2003, for Model EC 130 B4 helicopters, or Eurocopter ASB No. 71.00.16, dated May 12, 2003, for Model AS 350 B3 helicopters.

(d) To request a different method of compliance or a different compliance time for this AD, follow the procedures in 14 CFR 39.19. Contact Manager, Safety Management Office, Rotorcraft Directorate, FAA, for information about previously approved alternative methods of compliance.

(e) The inspections, measuring, and repositioning, if necessary, shall be done in accordance with Eurocopter ASB No. 71A001 for Model EC 130 B4 helicopters and ASB No. 71.00.16 for Model AS 350 B3 helicopters, both dated May 12, 2003. The Director of the Federal Register approved this incorporation by reference in accordance with 5 U.S.C. 552(a) and 1 CFR part 51. Copies may be obtained from American Eurocopter Corporation, 2701 Forum Drive, Grand Prairie, Texas 75053-4005. Copies may be inspected at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

(f) This amendment becomes effective on July 9, 2004.

Note: The subject of this AD is addressed in Direction Generale De L'Aviation Civile (France) AD 2003-208(A) and AD 2003-209(A), both dated May 28, 2003.

Issued in Fort Worth, Texas, on May 21, 2004.
David A. Downey,
Manager, Rotorcraft Directorate, Aircraft Certification Service.

[FR Doc. 04-12441 Filed 6-3-04; 8:45 am]

BILLING CODE 4910-13-P